CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its National Senior Service Corps (Senior Corps) Grant Application. This application is used by current and prospective grantees to apply for sponsorship of projects under the Retired and Senior Volunteer Program (RSVP); the Foster Grandparent Program (FGP); the Senior Companion Program (SCP); the Senior Demonstration Program (SDP); and the Special Volunteer Program—Homeland Security (SVP). Completion of the Grant Application is required to be considered for or obtain sponsorship.

Copies of the information collection requests can be obtained by contacting the office listed in the address section of this notice.

DATES: Written comments must be submitted to the individual and office listed in the ADDRESSES section by February 11, 2005.

ADDRESSES: You may submit comments, identified by the title of the information collection activity, by any of the following methods:

(1) By mail sent to: Corporation for National and Community Service, National Senior Service Corps; Attention Ms. Angela Roberts, Associate Director, Room 9305; 1201 New York Avenue, NW., Washington, DC 20525.

(2) By hand delivery or by courier to the Corporation's mailroom at Room 6010 at the mail address given in paragraph (1) above, between 9 a.m. and 4 p.m. Monday through Friday, except Federal holidays.

(3) By fax to: (202) 565-2743, Attention Ms. Angela Roberts, Associate Director.

(4) Electronically through the Corporation's e-mail address system: aroberts@cns.gov.

FOR FURTHER INFORMATION CONTACT: Angela Roberts, (202) 606-5000, ext. 111, or by e-mail at aroberts@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background: The Senior Corps Grant Application is completed by applicant organizations interested in sponsoring a Senior Corps program. The application is completed electronically using the Corporation's web-based grants management system, eGrants.

Current Action: The Corporation seeks to renew and revise the current application. When revised, the application will include additional instructions to clarify narrative and work plan sections; will contain an updated list of “Service Categories” used by applicants to identify the types of needs the national service participants will meet; and will contain current references used in the grants management system. The application will otherwise be used in the same manner as the existing application. The Corporation also seeks to continue using the current application until the revised application is approved by OMB. The current application is due to expire on March 31, 2005.

Type of Review: Renewal.

Agency: Corporation for National and Community Service.

Title: National Senior Service Corps Grant Application.

OMB Number: 3045-0035.

Agency Number: SF 424-NSSC.

Affected Public: Current and prospective sponsors of National Senior Service Corps Grants.

Total Respondents: 1,513.

Frequency: Annually, with exceptions.

Average Time Per Response: Averages 13.2 hours. Estimated at 16.5 hours for first time respondents; 15 hours for continuation sponsors; 5 hours for revisions.

Estimated Total Burden Hours: 20,027 hours.

Total Burden Cost (capital/startup): None.

Total Burden Cost (operating/maintenance): $6,497.

Comments submitted in response to this notice will be summarized and/or included in the request for Office of Management and Budget approval of the information collection request; they will also become a matter of public record.

Dated: December 7, 2004.
Tess Scannell,
Director, National Senior Service Corps.

[FR Doc. 04-27203 Filed 12-10-04; 8:45 am]

BILLING CODE 6050-SS-P